DEPARTMENT OF TRANSPORTATION

Federal Aviation Administration

14 CFR Part 71

[Docket No. FAA-2007-28366; Airspace Docket No. 07-ASO-11]

Amendment of Class E Airspace; Mooresville, NC

AGENCY: Federal Aviation Administration (FAA), DOT.

ACTION: Final rule.

SUMMARY: This action amends class E5 airspace at Mooresville, NC. Due to the establishment of two Copter Area Navigation (RNAV) Global Positioning System (GPS) Standard Instrument Approach Procedure (SIAP) helicopter point in space approaches at Lowe's Mooresville Heliport, Mooresville, NC, additional controlled airspace extending upward from 700 feet Above Ground Level (AGL) is needed to accommodate the SIAPs and for Instrument Flight Rules (IFR) operations at Lowe's Mooresville Heliport.

DATES: Effective Date: 0901 UTC, February 14, 2008. The Director of the Federal Register approves this incorporation by reference action under title 1, Code of Federal Regulations, part 51, subject to the annual revision of FAA Order 7400.9 and publication of conforming amendments.

FOR FURTHER INFORMATION CONTACT: Melinda Giddens, System Support Group, Eastern Service Center, Federal Aviation Administration, P.O. Box 20636, Atlanta, Georgia 30320; telephone (404) 305-5610.

SUPPLEMENTARY INFORMATION:

History

On June 27, 2007, the FAA proposed to amend Title 14 of the Code of Federal Regulations (14 CFR part 71) by amending Class E5 airspace at Mooresville, NC, (72 FR 35209). This action provides adequate Class E5 airspace for IFR operations at Lowe's Mooresville Heliport, Mooresville, NC. Designations for Class E are published in FAA Order 7400.9R, dated August 15, 2007, and effective September 15, 2007, which is incorporated by reference in 14 CFR 71.1. The Class E designations listed in this document will be published subsequently in the Order.

Interested parties were invited to participate in this rulemaking proceeding by submitting written comments on the proposal to the FAA. No comments objecting to the proposal were received.

The Rule

This amendment to part 71 of the Code of Federal Regulations (14 CFR part 71) amends the Class E5 airspace at Mooresville, NC.

The FAA has determined that this rule only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of airspace necessary to ensure the safety of aircraft and the efficient use of airspace. This regulation is within the scope of that authority as it establishes additional Class E airspace at Mooresville, NC.

List of Subjects in 14 CFR Part 71

Airspace, Incorporation by reference, Navigation (Air).

Adoption of the Amendment

In consideration of the foregoing, the Federal Aviation Administration amends 14 CFR Part 71 as follows:

PART 71—[AMENDED]

1. The authority citation for Part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9R, Airspace Designations and Reporting Points, dated August 15, 2007, and effective September 15, 2007, is amended as follows:

Paragraph 6005 Class E Airspace Areas Extending Upward from 700 feet or More Above the Surface of the Earth.

* * * * *

ASO NC E5 Mooresville, NC [REVISED]

Lake Norman Airpark, NC

(Lat.35°36′50″ N., long. 80°53′58″ W.)

Lowe's Mooresville Heliport Point In Space Coordinates

(Lat.35°32′32″ N., long. 80°50′29″ W.)

(Lat.35°32′51″ N., long. 80°52′02″ W.)

That airspace extending upward from 700 feet above the surface within a 6.3-radius of Lake Norman Airpark and that airspace within a 6-mile radius of the points in space (Lat.35°32′32″ N., long. 80°50′29″ W) and (Lat.35°32′51″ N., long. 80°52′02″ W) serving Lowe's Mooresville Heliport, excluding that airspace within the Statesville, NC, Class E airspace area and the Concord, NC, Class E airspace area.

* * * * *

Issued in College Park, Georgia, on October 5, 2007.
Mark D. Ward,
Manager, System Support Group, Eastern Service Center.

[FR Doc. 07-5646 Filed 11-14-07; 8:45 am]

BILLING CODE 4910-13-M